ENVIRONMENTAL PROTECTION AGENCY

[CERCLA-10-2020-0141; FRL-10015-33-Region 10]

Proposed CERCLA Prospective Purchaser Agreement; TriStar North Inc. Former Kaiser Smelter Site, Mead, Washington

AGENCY: Environmental Protection Agency (EPA).

ACTION: Notice; request for public comment.

SUMMARY: In accordance with of the Comprehensive Environmental Response, Compensation, and Liability Act, as amended (“CERCLA”), notice is hereby given of a proposed prospective purchaser agreement concerning the Former Kaiser Smelter Site, Mead, Washington, with the following settling party: TriStar North, Inc. The agreement requires the settling party to provide full cooperation with the Environmental Protection Agency's (EPA) cleanup activities, provide access to the property, and exercise appropriate care with regard to existing contamination, in addition to making a payment of $50,000 to EPA. For thirty (30) days following the date of publication of this document, the Agency will receive written comments relating to the agreement. The Agency will consider all comments and may modify or withdraw its consent to the agreement if comments received disclose facts or considerations which indicate that the agreement is inappropriate, improper, or inadequate. The Agency's response to any comments received will be available electronically for public inspection at https://www.regulations.gov.

DATES: Comments must be submitted on or before November 18, 2020.

ADDRESSES: The proposed agreement is available electronically for public inspection at https://semspub.epa.gov/src/collection/10/SC39959. Submit your comments, identified by EPA Docket No. CERCLA-10-2020-0141, by one of the following methods:

• https://www.regulations.gov. Follow on-line instructions for submitting comments. Once submitted, comments cannot be edited or removed from Regulations.gov. EPA may publish any comment received to its public docket. Do not submit electronically any information you consider to be Confidential Business Information (“CBI”) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

• Email: Brooks Stanfield, Federal On-SceneCoordinator, at stanfield.brooks@epa.gov.

• Written comments submitted by mail are temporarily suspended, and no hand deliveries will be accepted. We encourage the public to submit comments via https://www.regulations.gov.

Instructions: Direct your comments to EPA Docket No. CERCLA-10-2020-0141. EPA's policy is that all comments received will be included in the public docket without change and may be made available online at https://www.regulations.gov, including any personal information provided, unless the comment includes information claimed to be CBI or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the https://semspub.epa.gov/src/collections/10/AR/WAN001020091 index. Although listed in the index, some information is not publicly available, e.g., CBI or other information whose disclosure is restricted by statute. Certain other material, such as copyrighted material, will be publicly available only in the hard copy. Publicly available docket materials are available electronically in https://semspub.epa.gov/src/collections/10/AR/WAN001020091.

EPA is temporarily suspending its Docket Center and Regional Records Centers for public visitors to reduce the risk of transmitting COVID-19. In addition, many site information repositories are closed, and information in these repositories, including the deletion docket, has not been updated with hardcopy or electronic media. For further information and updates on EPA Docket Center services, please visit us online at https://www.epa.gov/dockets.

EPA continues to carefully and continuously monitor information from the Centers for Disease Control and Prevention (CDC), local area health departments, and our Federal partners so that we can respond rapidly as conditions change regarding COVID.

FOR FURTHER INFORMATION CONTACT: Brooks Stanfield, Federal On-Scene Coordinator, U.S. Environmental Protection Agency, Region 10, 1200 Sixth Avenue, Suite 155, 13-J07, Seattle, WA 98101, (206) 553-4432, email: stanfield.brooks@epa.gov; and/or Kristin Leefers, Assistant Regional Counsel, U.S. Environmental Protection Agency, Region 10, 1200 Sixth Avenue, Suite 155, M/S: 11-C07, Seattle, WA 98101, (206) 553-1532, email: leefers.kristin@epa.gov.

SUPPLEMENTARY INFORMATION: This agreement is entered into pursuant to the authority of the Attorney General to compromise and settle claims of the United States, consistent with CERCLA, 42 U.S.C. 9601-9675. The agreement requires the settling party to provide full cooperation with EPA's cleanup activities, provide access to the property, and exercise appropriate care with regard to existing contamination, in addition to making a payment of $50,000 to EPA. The agreement also includes a covenant not to sue the settling party pursuant to sections 106 and 107(a) of CERCLA, 42 U.S.C. 9606 and 9607(a).

Authority: 42 U.S.C. 9601-9657.

Dated: October 13, 2020.
Calvin Terada,
Division Director, Superfund and Emergency Management Division, Region 10.

[FR Doc. 2020-23036 Filed 10-16-20; 8:45 am]

BILLING CODE 6560-50-P